DEPARTMENT OF TRANSPORTATION

Federal Railroad Administration

Notice To Rescind a Notice of Intent To Prepare an Environmental Impact Statement

AGENCY: Federal Railroad Administration (FRA), U.S. Department of Transportation (DOT).

ACTION: Notice.

SUMMARY: In this notice, FRA is advising the public that the Notice of Intent (NOI) to prepare a Tier One Environmental Impact Statement (EIS) for the Rochester-Twin Cities Passenger Rail Corridor Investment Plan is rescinded.

FOR FURTHER INFORMATION CONTACT: Andrea E. Martin, Environmental Protection Specialist, FRA, 1200 New Jersey Avenue SE., MS-20, Washington, DC 20590, telephone: (202) 493-6201.

SUPPLEMENTARY INFORMATION: The Minnesota Department of Transportation (MNDOT) and the Olmsted County Regional Railroad Authority (OCRRA) jointly explored the feasibility of a high-speed rail connection to serve anticipated travel demand between the State's two largest economies, Rochester and the Twin Cities. FRA published the NOI to prepare a Tier One EIS for the Rochester-Twin Cities Passenger Rail Corridor Investment Plan in the Federal Register on May 13, 2013; and MNDOT and OCRRA issued a final scoping decision document and alternatives analysis report in 2015. MNDOT and its partner OCRRA decided to suspend the voluntary EIS due to public funding constraints and private sector actions to undertake a similar project. Therefore, FRA is issuing this notice rescinding its NOI to prepare a Tier One EIS for the Rochester-Twin Cities Passenger Rail Corridor Investment Plan.

Issued in Washington, DC, on August 16, 2016.
Jamie Rennert,
Office Director, Office of Program Delivery.

[FR Doc. 2016-19917 Filed 8-19-16; 8:45 am]

BILLING CODE 4910-06-P